DEPARTMENT OF COMMERCE

National Oceanic and Atmospheric Administration

RIN 0648-XC372

Endangered Species; File No. 17381

AGENCY: National Marine Fisheries Service (NMFS), National Oceanic and Atmospheric Administration (NOAA), Commerce.

ACTION: Issuance of permit.

SUMMARY: Notice is hereby given that Kristen Hart, Ph.D., United States Geological Survey, Southeast Ecological Science Center, 3205 College Avenue, Davie, FL 33314 has been issued a permit to take listed sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Colette Cairns or Amy Hapeman, (301) 427-8401.

SUPPLEMENTARY INFORMATION: On December 5, 2012, notice was published in the Federal Register (77 FR 72326) that a request for a scientific research permit to take green (Chelonia mydas), loggerhead (Caretta caretta), hawksbill (Eretmochelys imbricata), and Kemp's ridley (Lepidochelys kempii) sea turtles had been submitted by the above-named individual. The requested permit has been issued under the authority of the Endangered Species Act of 1973, as amended (ESA; 16 U.S.C. 1531 et seq.) and the regulations governing the taking, importing, and exporting of endangered and threatened species (50 CFR parts 222-226).

The above-named individual has been granted a 5-year permit to continue long-term research on the demographics and movements of green, loggerhead, hawksbill, and Kemp's ridley sea turtles in Florida waters. Researchers may capture sea turtles by rodeo capture, cast net, tangle net, dip net or hand capture. Turtles may be weighed, measured, flipper tagged, passive integrated transponder tagged, blood sampled, tissue sampled, scute sampled, epibiota sampled, fecal sampled, undergo gastric lavage, temporarily carapace marked, photographed, and released. A subset of turtles may be fitted with some combination of up to three telemetry tags—e.g., satellite tag, acoustic transmitter, and/or accelerometer, —and tracked; upon recapture, these animals would have the tags removed.

Issuance of this permit, as required by the ESA, was based on a finding that such permit (1) was applied for in good faith, (2) will not operate to the disadvantage of such endangered or threatened species, and (3) is consistent with the purposes and policies set forth in section 2 of the ESA.

Dated: July 17, 2013.
P. Michael Payne,
Chief, Permits and Conservation Division, Office of Protected Resources, National Marine Fisheries Service.

[FR Doc. 2013-17555 Filed 7-22-13; 8:45 am]

BILLING CODE 3510-22-P